DEPARTMENT OF STATE

[Public Notice: 9181]

30-Day Notice of Proposed Information Collection; Affidavit of Relationship

ACTION: Notice of request for public comment and submission to OMB of proposed collection of information.

SUMMARY: The Department of State is seeking Office of Management and Budget (OMB) approval for the information collection described below. In accordance with the Paperwork Reduction Act of 1995, we are requesting comments on this collection from all interested individuals and organizations. The purpose of this Notice is to allow 30 days for public comment.

DATES: Submit comments directly to the Office of Management and Budget (OMB) up to August 6, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sumitra Siram, Program Officer, PRM/Office of Admissions, 2025 E Street NW., Washington, DC 20522-0908, who may be reached on 202-453-9250 or at SiramS@state.gov.

SUPPLEMENTARY INFORMATION: • Title of Information Collection: Affidavit of Relationship.

• OMB Control Number: 1405-0206.

• Type of Request: Extension of a Currently Approved Collection.

• Originating Office: Office of Admissions, Bureau of Population, Refugees and Migration (PRM/A).

• Form Number: DS-7656.

• Respondents: Persons admitted to the United States as refugees or granted asylum in the United States who are claiming a relationship with family members overseas (spouse, unmarried children under age 21, and/or parents) in order to assist the U.S. Government in determining whether those family members are qualified to apply for admission to the United States via the U.S. Refugee Admissions Program under the family reunification access priority.

• Estimated Number of Respondents: 2,500.

• Estimated Number of Responses: 2,500.

• Average Time per Response: 60 Minutes.

• Total Estimated Burden Time: 2,500.00 Hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Affidavit of Relationship (AOR) will be required by the Department of State to establish qualifications for access to the Priority-3 (P-3) Family Reunification category of the United States Refugee Admissions Program (USRAP) by persons of certain nationalities who are family members of qualifying “anchors” (persons already admitted to the U.S. as refugees or who were granted asylum in the United States., including persons who may now be lawful permanent residents or U.S. citizens). Qualifying family members of U.S.-based anchors include spouse, unmarried children under age 21, and parents. Eligible nationalities are determined on an annual basis following careful review of several factors, including the United Nations High Commissioner for Refugees' annual assessment of refugees in need of resettlement, prospective or ongoing repatriation efforts, and U.S. foreign policy interests. The P-3 category, along with the other categories of cases that have access to USRAP, is outlined in the annual Proposed Refugee Admissions—Report to Congress, which is submitted on behalf of the President in fulfillment of the requirements of section 207(d) of the Immigration and Nationality Act (8 U.S.C. 1157), and authorized by the annual Presidential Determination for Refugee Admissions. Having an AOR filed on a potential applicant's behalf by an eligible anchor relative will be one of the criteria for access to this program. The AOR also informs the anchor relative that DNA evidence of all claimed parent-child relationships between the anchor relative and parents and/or unmarried children under 21 will be required as a condition of access to P-3 processing and that the costs will be borne by the anchor relative or his/her family members who may apply for access to refugee processing, or their derivative beneficiaries, as the case may be. Successful applicants may be eligible for reimbursement of DNA test costs.

Methodology

This information collection currently involves the limited use of electronic techniques. Anchors in the United States may visit any resettlement agency throughout the United States to complete the AOR. Resettlement agencies are organizations that work under a cooperative agreement with the Department of State. In order to file an AOR, an individual must be at least 18 years of age and have been admitted to the United States as a refugee or granted asylum in the United States no more than five years prior to the filing of the AOR. The DS-7656 form will be available electronically and responses will be completed electronically with the aid of resettlement agency staff. Completed AORs will be printed out for ink signature by the respondents and will be scanned and submitted electronically to the Refugee Processing Center (RPC) by the resettlement agencies for downloading into the Worldwide Refugee Admissions Processing System (WRAPS) for data entry and case processing. A signed paper copy of the AOR will remain with resettlement agencies.

Dated: June 24, 2015.
Simon Henshaw,
Principal Deputy Assistant Secretary, Bureau of Population, Refugees and Migration, Department of State.

[FR Doc. 2015-16615 Filed 7-6-15; 8:45 am]

BILLING CODE 4710-33-P